SECURITIES AND EXCHANGE COMMISSION

17 CFR Part 270

[Release No. IC-27600A; File No. S7-03-04]

RIN 3235-AJ62

Investment Company Governance; Correction

AGENCY: Securities and Exchange Commission.

ACTION: Proposed rule.

In document E6-21903 beginning on page 76618 in the issue of Thursday, December 21, 2006, make the following correction:

On page 76618, in the first column, the RIN number should read as set forth above.

Dated: January 4, 2007.
Nancy M. Morris,
Secretary.

[FR Doc. E7-210 Filed 1-10-07; 8:45 am]

BILLING CODE 8011-01-P